DEPARTMENT OF HEALTH AND HUMAN SERVICES

Indian Health Service

National Association of Community Health Representatives

AGENCY: Indian Health Service, HHS.

ACTION: Notice of new developmental non-competitive single source Cooperative Agreement with the National Association of Community Health Representatives.

SUMMARY: The Indian Health Service (IHS) announces a new developmental non-competitive single source Cooperative Agreement with the National Association of Community Health Representatives (NACHR). The application is for a five year project period with one year budget periods to be awarded on April 15, 2004. The initial budget period will be awarded at $90,000.00 and the entire project is expected to be awarded at $450,000.00. This award is for start up cost to research and study ways to improve the provision of health services delivery, outreach and health education for Native American people by studying ways to enhance communications among American Indian/Alaska Native communities, the IHS and Community Health Representatives (CHR) as health providers/educators/advocates; by publishing an informative newsletter for members; by coordinating and co-sponsoring a Biannual Educational Conference for CHR programs' staff; by establishing links with other national Indian organizations and with professional groups to serve as advocates for CHR providers; and by actively seeking other funding sources to ensure sustainability in pursuing its mission. Continuation awards will be made on the basis of satisfactory progress as evidenced by required reports and the availability of funds.

The award is issued under the authority of the Public Health Service Act, section 301(a), and is included under the Catalog of Federal Domestic Assistance number 93.933. The specific objectives of the project are:

1. The Association will publish, at least twice a year, a newsletter for members, focusing on health promotion/disease prevention activities and models of best or improving practices. The newsletter will be available in both hard copy and electronically.

2. The Association will present a Biannual Educational Conference which supports training and continuing education for Community Health Representatives.

3. The Association will explore and implement the most efficient ways to establish links with other national Indian organizations, with professional groups and with Federal, state, and local entities to serve as advocates for the CHR providers who work with American Indian/Alaska Natives nationwide.

4. The Association will develop and submit at least two proposals for funding that further the mission, goals, and objectives of CHR programs to address health issues in the community and enhance service delivery. These proposals may be to Federal, state, regional, national, private, and foundation entities.

Justification for Single Source

This project has been awarded on a non-competitive single source basis. NACHR is the only nationwide organization that specifically represents approximately 264 individual, Tribally contracted AI/AN CHR programs. These CHR programs provide care to over half-million Native American people who live on Indian reservations or who live in non-reservation areas with significant Native American populations. The population served by these programs is the same as Indian Health Service's user population. The NACHR Board is comprised of one duly elected representative from each of the 12 IHS Areas. For over 15 years, NACHR has had the primary responsibility for advertising, coordinating and organizing the once every three years national educational conferences typically attended by over half (approximately 800 persons) hte CHR workforce. NACHR has provided a reliable means by which to obtain programmatic and logistical information along with informal tribal consultation. Its long history, record of accomplishment, and instutitional knowledge in representing tribal CHR programs make it uniquely qualified to carry out this project.

Use of Cooperative Agreement

This new development non-competitive single source Cooperative Agreement Award will involve:

1. Cathy Stueckemann, Project Official and IHS program staff, to approve articles to be included in the newsletters and may, as requested by the Association, provide articles.

2. IHS program staff to work with the Association in developing the Biannual Educational Conference.

3. IHS Program staff to have approval over the NACHR Board's hiring of key personnel as defined by regulation or provision in the cooperative agreement.

4. IHS Program staff to provide technical assistance to the NACHR Board and to attend at least one Board meeting.

Contacts: For further information, contact Cathy Stueckemann, JD, MPA, Public Health Advisor, CHR Program, Office of Clinical and Preventive Services, Office of Public Health, Indian Health Service, 801 Thompson Avenue, Reyes Building, Suite 300, Rockville, Maryland 20852, telephone (301) 443-2500. For grants information, contact Sylvia Ryan, Grants Management Specialist, Division of Acquisitions and Grants Management Branch, 801 Thompson Avenue, Suite 100, Rockville, Maryland 20852, telephone (301) 443-5204.

Dated: March 31, 2004.
Charles W. Grim,
Assistant Surgeon General, Director, Indian Health Service.

[FR Doc. 04-7663 Filed 4-5-04; 8:45 am]

BILLING CODE 4160-16-M